DEPARTMENT OF COMMERCE

National Institute of Standards and Technology

[Docket No.: 240924-0252]

Existing Awards and Recognition Programs for Standards Development and Best Practices for Standards Workforce Development in Support of the Implementation of the United States Government National Standards Strategy for Critical and Emerging Technology (USG NSSCET)

AGENCY: National Institute of Standards and Technology (NIST), Commerce.

ACTION: Notice; request for information.

SUMMARY: The U.S. Government National Standards Strategy for Critical and Emerging Technology (USG NSSCET) supports and complements existing private sector-led activities and plans, including the American National Standards Institute (ANSI) United States Standards Strategy (USSS), with a focus on critical and emerging technology (CET). The USG NSSCET Implementation Roadmap outlines immediate and long-term U.S. Government actions to reinforce the U.S. standards system. This Request for Information (RFI) solicits information to inform the Implementation Roadmap actions focused on increasing U.S. participation in standards development and educating the standards workforce. The RFI is also intended to maintain an open dialogue with the CET standards community on opportunities for continued coordination.

DATES: Comments must be received by 5:00 p.m. Eastern Time on December 9, 2024. Submissions received after that date may not be considered in the analysis of this RFI. Public input on general USG NSSCET implementation coordination activities will be accepted on an on-going basis via www.standards.gov.

ADDRESSES: Comments must be submitted via www.regulations.gov:

• To submit electronic public comments via the Federal e-Rulemaking Portal.

1. Go to www.regulations.gov and enter [NIST-2024-0003] in the search field.

2. Click the “Comment Now!” icon and complete the required fields.

3. Enter or attach your comments.

Comments containing references, studies, research, and other empirical data that are not widely published should include copies of the referenced materials. All submissions, including comments, attachments and other supporting materials, will become part of the public record and subject to public disclosure. Relevant comments will generally be available on the Federal eRulemaking Portal at www.regulations.gov. After the comment period closes, relevant comments will generally be available on www.standards.gov. NIST will not accept comments accompanied by a request that part or all of the material be treated confidentially because of its business proprietary nature or for any other reason. Therefore, do not submit confidential business information or otherwise sensitive, protected, or personal information, such as account numbers, Social Security numbers, or names of other individuals.

FOR FURTHER INFORMATION CONTACT: For questions about this notice please contact: Standards Coordination Office (SCO), NIST via email at sco@nist.gov or by phone at (301) 975-5633. Please direct all media inquiries to Richard Press in the NIST Public Affairs Office via email at richard.press@nist.gov or by phone at (301) 975-0501.

SUPPLEMENTARY INFORMATION: NIST is seeking information on behalf of the U.S. Department of Commerce and the U.S. Government to support the implementation of the May 2023 USG NSSCET (found at https://www.whitehouse.gov/wp-content/uploads/2023/05/US-Gov-National-Standards-Strategy-2023.pdf), which complements existing private sector-led activities and plans, including the ANSI USSS, with a focus on CET. A full list of CETs identified by the National Science and Technology Council (NSTC) can be found at https://www.whitehouse.gov/wp-content/uploads/2022/02/02-2022-Critical-and-Emerging-Technologies-List-Update.pdf.

The U.S. standards development system is unique because it is built upon a wide variety of processes that are open, voluntary, decentralized, and led by the private sector. These processes feature participation by interested stakeholders with consensus-based decision-making. Finalized standards are primarily published by private sector standards organizations, not the U.S. Government. The USG NSSCET reinforces the U.S. Government's support of a private sector-led system based on principles that are fundamental to the development of international standards: transparency, openness, impartiality and consensus, effectiveness and relevance, and coherence.

The USG developed the USG NSSCET Implementation Roadmap (https://www.whitehouse.gov/wp-content/uploads/2024/07/USG-NSSCET_Implementation_Rdmap_v7_23.pdf), which provides immediate and long-term actions for the U.S. Government to reinforce its support for the U.S. standards system, to operationalize the strategy. Released in July 2024, the Implementation Roadmap is based on the findings from a broad stakeholder engagement campaign that included input from workshops, meetings, a USG NSSCET-focused RFI (88 FR 76187 (Nov. 6, 2023), and a study conducted by the NIST Visiting Committee on Advance Technology (https://www.nist.gov/system/files/documents/2024/04/09/VCAT%20Subcommittee%20on%20International%20Standards%20Report%202024_FINAL_1.pdf).

An area of focus during the stakeholder engagement conducted to inform the USG NSSCET Implementation Roadmap was the identification of barriers to increased participation in standards development. Engaging and recognizing early and mid-career standards development professionals through education and meaningful acknowledgment was a key theme identified by stakeholders. Another key theme was the critical role of business and technology decision-makers in helping drive engagement in standards development and the need to educate these leaders on why, how, and when to engage. NIST is now seeking information through this RFI to further inform how the U.S. Government addresses these key themes during implementation.

The national interest in CET and associated areas of standardization demands a new and urgent level of coordination and effort. National policy priorities, as expressed in legislation and other statements of policy, will require new ways for public sector and private sector (i.e., industry, including start-ups and small- and medium-sized enterprises (SMEs), the academic community, and civil society organizations) stakeholders to cooperate in order to advance U.S. economic competitiveness and national security.

In this RFI, NIST is seeking information about existing awards and recognition programs that can be leveraged by the U.S. Government and U.S. standards community to encourage and support standards participation and leadership in CET areas in alignment with the actions called out in the USG NSSCET Implementation Roadmap. NIST is also requesting information that will help inform the work of the U.S. Government and the U.S. standards community to educate and empower the standards workforce and business and technology decision-makers. Finally, NIST is seeking to maintain an open dialogue and sustained communication with the U.S. CET and standards communities regarding the ongoing implementation of the roadmap. Information gathered through this RFI and other stakeholder engagements will support key activities to optimize the USG NSSCET impact and further enhance the U.S. Government's ability to support a private sector-led, open, consensus-based international standards system in which the U.S. Government is an active stakeholder and participant.

NIST is requesting comments on the following questions and encourages responses from the public, including key stakeholders from the private sector (i.e., industry, including start-ups and SMEs, the academic community, professional societies, and civil society organizations), standards developing organizations (SDOs), and international standards community.

The questions on awards and recognition, as well as on workforce development, address specific aspects of the USG NSSCET where further input from the stakeholder community will help the short- and long-term outcomes in the implementation roadmap. The inclusion of these two topics on this RFI is not intended to indicate a particular relationship between the two topics, nor are they intended to limit the topics that may be addressed by the public in response to this RFI. Responses to the open feedback question may include any topic believed to have implications for the ongoing implementation.

When responding, commenters may address the practices of their organization(s) or a group of organizations with which they are familiar. Commenters may also provide information about the type, size, and location of the organization(s). Provision of such information is optional and will not affect NIST's consideration.

Existing Awards and Recognition Programs for Standards Development

1. How can the U.S. Government and the U.S. standards community leverage existing awards and recognition programs or establish new programs to support standards participation and leadership in CET areas?

2. What types of awards and recognition programs for standards development further standards engagement, especially with respect to CET?

Best Practices for Standards Workforce Development

1. What types of support could improve professional development for early-career professionals, mid-career professionals, or those who are new to standards development?

2. What type of educational outreach to business and technology decision-makers on why, how, and when to engage in standards development could increase their engagement?

3. How can the U.S. Government and the U.S. standards community more effectively work together to share best practices for standards workforce development?

Open Feedback on the Implementation of the USG NSSCET

1. Please describe any additional observations of how the U.S. Government can effectively implement the vision set forth in the USG NSSCET and associated Implementation Roadmap.

Alicia Chambers,
NIST Executive Secretariat.

[FR Doc. 2024-23174 Filed 10-7-24; 8:45 am]

BILLING CODE 3510-13-P